DEPARTMENT OF TRANSPORTATION

Federal Aviation Administration

14 CFR Part 39

[Docket No. FAA-2005-20514; Directorate Identifier 2005-CE-08-AD; Amendment 39-14025; AD 2005-07-01]

RIN 2120-AA64

Airworthiness Directives; the Cessna Aircraft Company Models 208 and 208B Airplanes

AGENCY: Federal Aviation Administration (FAA), DOT.

ACTION: Final rule; correction.

SUMMARY: This document makes a correction to Airworthiness Directive (AD) 2005-07-01, which was published in the Federal Register on March 25, 2005 (70 FR 15223), and applies to all the Cessna Aircraft Company (Cessna) Models 208 and 208B airplanes. We incorrectly referenced the affected airplane models as C208 and C208B throughout the document. The correct airplane models are 208 and 208B. This action corrects the regulatory text.

DATES: The effective date of this AD remains March 29, 2005.

FOR FURTHER INFORMATION CONTACT: Paul Pellicano, Aerospace Engineer (Icing), FAA, Small Airplane Directorate, c/o Atlanta Aircraft Certification Office (ACO, One Crown Center, 1985 Phoenix Boulevard, Suite 450, Atlanta, GA 30349; telephone: (770) 703-6064; facsimile: (770) 703-6097.

SUPPLEMENTARY INFORMATION:

Discussion

On March 21, 2005, FAA issued AD 2005-07-01, Amendment 39-14025 (70 FR 15223, March 25, 2005), which applies to all the Cessna Models 208 and 208B airplanes.

We incorrectly referenced the affected airplane models as C208 and C208B throughout the document. The correct airplane models are 208 and 208B. This action corrects the regulatory text.

This AD requires you to incorporate information into the applicable section of the Airplane Flight Manual (AFM) to assure that the pilot has enough information to prevent loss of control of the airplane while in-flight during icing conditions.

Need for the Correction

This correction is needed to ensure that the affected airplane models numbers are correct and to eliminate misunderstanding in the field.

Correction of Publication

Accordingly, the publication of March 25, 2005 (70 FR 15223), of Amendment 39-14025; AD 2005-07-01, which was the subject of FR Doc. 05-5915, is corrected as follows:

Starting on page 15223 through page 15227, replace all references to Models C208 and C208B airplanes with Models 208 and 208B airplanes.

§ 39.13 [Corrected]

On page 15225, in § 39.13 [Amended], in paragraph (c), replace Models C208 and C208B with Models 208 and 208B.

On page 15226, in § 39.13 [Amended], in paragraph (e)(1), replace Model C208 airplanes and Model C208B airplanes with Model 208 airplanes and Model 208B airplanes.

On page 15226, in § 39.13 [Amended], in paragraphs (e)(2) and (e)(3), replace Model C208 airplanes with Model 208 airplanes.

On page 15226, in § 39.13 [Amended], in paragraphs (e)(4) and (e)(5), replace Model C208B airplanes with Model 208B airplanes.

Action is taken herein to correct this reference in AD 2005-07-01 and to add this AD correction to § 39.13 of the Federal Aviation Regulations (14 CFR 39.13).

The effective date remains March 29, 2005.

Issued in Kansas City, Missouri, on April 1, 2005.
David R. Showers,
Acting Manager, Small Airplane Directorate, Aircraft Certification Service.

[FR Doc. 05-7052 Filed 4-7-05; 8:45 am]

BILLING CODE 4910-13-P